DEPARTMENT OF HOMELAND SECURITY

Coast Guard

[Docket No. USCG-2007-29141]

National Maritime Security Advisory Committee; Meeting

AGENCY: U.S. Coast Guard, DHS.

ACTION: Notice of Meeting via Teleconference.

SUMMARY: The National Maritime Security Advisory Committee (NMSAC) will conduct a meeting by teleconference on Thursday, September 20, 2007, for the purpose of discussing the committee's comments, recommendations, and responses to a questionnaire designed to inform the development of a preliminary draft of the Transportation Worker Identification Credential (TWIC) Biometric Reader Requirements Notice of Proposed Rulemaking. The teleconference will be open to the public.

DATES: The teleconference will take place Thursday, September 20, 2007 from 1 p.m. to 4 p.m. e.s.t. This teleconference may close early if all business is finished. Written material and requests to make oral presentations should reach the Coast Guard on or before September 13, 2007. Requests to have a copy of your material distributed to each member of the committee or subcommittee should reach the Coast Guard on or before September 13, 2007.

ADDRESSES: The NMSAC teleconference will be held in room 5222, U.S. Coast Guard Headquarters, 2100 Second St., SW., Washington, DC 20593. Public participation is limited to monitoring the teleconference only, except at the time allotted by the chairperson for public comment; special note, the number of teleconference lines is limited and available on a first-come, first served basis. For call-in information contact Commander Mark Hammond using the contact information below. Requests to have topic related written material distributed to each member of the committee prior to the meeting should reach the contact person at the address below by September 13, 2007. Send written material by mail or electronic mail per instructions below. This notice is available in our online docket, USCG-2007-29141, at http://dms.dot.gov.

FOR FURTHER INFORMATION CONTACT: Commander Mark Hammond, CG-3PCP-1/NMSAC, Room 5302, 2100 2nd Street SW., Washington, DC, 20593, telephone number 202-372-1107, e-mail mark.e.hammond@uscg.mil and fax number 202-372-1905.

SUPPLEMENTARY INFORMATION: Notice of this meeting is given under the Federal Advisory Committee Act, 5 U.S.C. App. (Pub. L. 92-463).

On September 20, 2007 the committee will meet via teleconference for the purpose of discussing the committee's comments, recommendations, and responses to a questionnaire designed to inform the development of a preliminary draft of the Transportation Worker Identification Credential (TWIC) Biometric Reader Requirements Notice of Proposed Rulemaking.

The committee will discuss the above issues from approximately 1 p.m. e.s.t. to 4 p.m. e.s.t. The chairperson of the NMSAC shall conduct the teleconference meeting in a way that will, in their judgment, facilitate the orderly conduct of business. Please note that the teleconference may end early if all business is completed.

Agenda of Teleconference

(1) September 20, 2007 teleconference meeting:

a. Discuss the committee's comments, recommendations, to inform the development of a preliminary draft of the Transportation Worker Identification Credential (TWIC) Biometric Reader Requirements Notice of Proposed Rulemaking.

b. The Chairperson will announce the time allotted for public comments and discussion.

Procedural

The teleconference is open to the public, either by calling in on one of the public lines, or by attending at the Coast Guard headquarters address listed in ADDRESSES above. Please note that the teleconference may end early if all business is finished. Security requires that any member of the public who wishes to attend the teleconference in person at Coast Guard Headquarters provide his or her name and date of birth no later than 4 p.m. e.s.t., Friday, September 14, 2007 to Commander Mark Hammond at NMSAC@uscg.mil, or via phone at (202) 372-1107. Please list the docket number and NMSAC Teleconference in the subject line on all email messages. Photo identification will be required for entry into the building.

Information on Services for Individuals with Disabilities

For information on facilities or services for individuals with disabilities or to request special assistance at the meeting, contact Commander Mark Hammond as soon as possible.

Dated: August 28, 2007.
M. P. O'Malley.
Captain, U.S. Coast Guard, , Office of Port & Facility Activities.

[FR Doc. 07-4354 Filed 8-31-07; 2:25 pm]

BILLING CODE 4910-15-P